INTERNATIONAL TRADE COMMISSION

[Investigation No. 337-TA-829]

Certain Toner Cartridges and Components Thereof Corrected Notice of Institution of Investigation

AGENCY: U.S. International Trade Commission.

ACTION: Notice.

SUMMARY: Notice is hereby given that a complaint was filed with the U.S. International Trade Commission on January 23, 2012, under section 337 of the Tariff Act of 1930, as amended, 19 U.S.C. 1337, on behalf of Canon, Inc., Canon U.S.A., Inc., and Canon Virginia, Inc. The complaint alleges violations of section 337 based upon the importation into the United States, the sale for importation, and the sale within the United States after importation of certain toner cartridges and components thereof by reason of infringement of certain claims of U.S. Patent Nos. 5,903,803 (“the `803 patent”) and U.S. Patent No. 6,128,454 (“the `454 patent”). The complaint further alleges that an industry in the United States exists as required by subsection (a)(2) of section 337.

The complainants request that the Commission institute an investigation and, after the investigation, issue an exclusion order and cease and desist orders.

ADDRESSES: The complaint, except for any confidential information contained therein, is available for inspection during official business hours (8:45 a.m. to 5:15 p.m.) in the Office of the Secretary, U.S. International Trade Commission, 500 E Street SW., Room 112, Washington, DC 20436, telephone (202) 205-2000. Hearing impaired individuals are advised that information on this matter can be obtained by contacting the Commission's TDD terminal on (202) 205-1810. Persons with mobility impairments who will need special assistance in gaining access to the Commission should contact the Office of the Secretary at (202) 205-2000. General information concerning the Commission may also be obtained by accessing its Internet server at http://www.usitc.gov. The public record for this investigation may be viewed on the Commission's electronic docket (EDIS) at http://edis.usitc.gov.

FOR FURTHER INFORMATION CONTACT: The Office of Unfair Import Investigations, U.S. International Trade Commission, telephone (202) 205-2560.

Authority: The authority for institution of this investigation is contained in section 337 of the Tariff Act of 1930, as amended, and in section 210.10 of the Commission's Rules of Practice and Procedure, 19 CFR 210.10 (2011).

Scope of Investigation: Having considered the complaint, the U.S. International Trade Commission, on February 21, 2012, ordered that—

(1) Pursuant to subsection (b) of section 337 of the Tariff Act of 1930, as amended, an investigation be instituted to determine whether there is a violation of subsection (a)(1)(B) of section 337 in the importation into the United States, the sale for importation, or the sale within the United States after importation of certain toner cartridges and components thereof that infringe one or more of claims 128-130, 132, 133 and 139-143 of the `803 patent and one or more of claims 24-30 of the `454 patent, and whether an industry in the United States exists as required by subsection (a)(2) of section 337;

(2) For the purpose of the investigation so instituted, the following are hereby named as parties upon which this notice of investigation shall be served:

(a) The complainants are: Canon Inc., 30-2, Shimomaruko 3-chome, Ohta-ku, Tokyo 146-8501, Japan.

Canon U.S.A., Inc., One Canon Plaza, Lake Success, NY 11042.

Canon Virginia, Inc., 12000 Canon Boulevard, Newport News, VA 23606.

(b) The respondents are the following entities alleged to be in violation of section 337, and are the parties upon which the complaint is to be served:

Clover Holdings, Inc., 2700 West Higgins Road, Suite 100, Hoffman Estates, IL 60169.

Clover Technologies Group, LLC, d/b/a Depot International, f/k/a Depot America, f/k/a Image1 Products,4200 Columbus Street, Ottawa, IL 61350.

Clover Vietnam Co., Ltd., Bau Cap Hamlet, Nhuan Duc Commune, Cu Chi District, Ho Chi Minh City, Vietnam.

Dataproducts USA, LLC, 2001 Anchor Court, Thousand Oaks, CA 91320.

Dataproducts Imaging Solutions S.A. de C.V., Av Circulo de la Amistad 2701, Mexicali, BC 21210, Mexico.

CAU, Inc., d/b/a Cartridges Are Us, 100 Raycraft Drive, Ithaca, MI 48847.

Shanghai Orink Infotech, International Co., Ltd., Room 307, No. 275-8 East Guoding Road, Shanghai, China 200433.

Orink Infotech International Co., Ltd., Unit 1205, 12F/L, Sino Plaza, 255 Gloucester Road, Causewat Bay, Hong Kong.

Zhuhai Rich Imaging Technology Co., Ltd., F4, B1, No. 7 Pingxiyi Road, Nanping S&T Industry Community, Zhuhai, Guangdong Province, China 519060.

Standard Image Co., Ltd., a/k/a Shanghai Orink Co., Ltd., Room 507-508, Building A, No. 1555, Kongjiang Road, Yangpu District, Shanghai, China 200092.

Zhuhai National Resources & Jingjie Imaging Products Co., Ltd., d/b/a Huebon Co., Limited, d/b/a Ink-Tank, 3/F, No. 1 Industrial Building, Pingdong 2 Road,Nanping Science & Technology Park, Zhuhai, Guangdong Province, China 519060.

Standard Image USA, Inc., d/b/a Imaging Standard Inc., 1621 East Saint Andrew Place, Santa Ana, CA 92705.

Printronic Corporation, d/b/a Printronic.com, d/b/a InkSmile.com, 1621 East Saint Andrew Place, Santa Ana, CA 92705.

Nukote, Inc., 2400 Dallas Parkway, Suite 230, Plano, TX 75093.

Nukote Internacional de Mexico, S.A. de C.V., Avenida del Parque 1175, Monterrey Technology Park, Cienega de Flores, Nuevo Leon, Mexico 65550.

Acecom, Inc.—San Antonio, d/b/a InkSell.com, 14833 Bulverde Road, San Antonio, TX 78247.

Atman, Inc., d/b/a pcRUSH.com, 1325 East El Segundo Boulevard, El Segundo, CA 90245.

Dexxxon Digital Storage, Inc., 7611 Green Meadows Drive, Lewis Center, OH 43035.

Discount Office Items, Inc., 302 Industrial Drive, Columbus, WI 53925.

Deal Express LLC, d/b/a Discount Office Items, 302 Industrial Drive, Columbus, WI 53925.

Do It Wiser LLC, d/b/a Image Toner, 1720 Cumberland Point Drive, Suite 21, Marietta, GA 30067.

E-Max Group, Inc., d/b/a Databazaar.com, 12070 Miramar Parkway, Miramar, FL 33025.

Green Project, Inc., 15335 Don Julian Road, Hacienda Heights, CA 91745.

GreenLine Paper Company, Inc., 631 South Pine Street, York, PA 17403.

IJSS Inc., d/b/a TonerZone.com, d/b/a InkJetSuperstore.com, 6380 Wilshire Boulevard, Suite 1018, Los Angeles, CA 90048.

Imaging Resources, LLC, 9434 Mason Avenue, Chatsworth, CA 91311.

Ink Technologies Printer Supplies, LLC, 7600 McEwen Road, Dayton, OH 45459.

Myriad Greeyn LLC, 2342 Croix Drive, Virginia Beach, VA 23451, Office World, Inc., 115 Cleveland Street, Eugene, OR 97402.

OfficeWorld.com, Inc., 115 Cleveland Street, Eugene, Oregon 97402.

OnlineTechStores.com, Inc., d/b/a SuppliesOutlet.com, 10381 Double R Boulevard, Reno, NV 89521.

SupplyBuy.com, Inc., 230 4th Avenue N, Suite 300D, Nashville, TN 37219.

Virtual Imaging Products Inc., 135 Ormont Drive, Unit #14/15, North York, Ontario, M9L 1N6.

Zinyaw LLC, d/b/a TonerPirate.com, 14781 Memorial Drive, Suite 1359, Houston, TX 77079.

(c) The Office of Unfair Import Investigations, U.S. International Trade Commission, 500 E Street, SW., Suite 401, Washington, DC 20436; and

(3) For the investigation so instituted, the Chief Administrative Law Judge, U.S. International Trade Commission, shall designate the presiding Administrative Law Judge.

Responses to the complaint and the notice of investigation must be submitted by the named respondents in accordance with section 210.13 of the Commission's Rules of Practice and Procedure, 19 CFR 210.13. Pursuant to 19 CFR 201.16(d)-(e) and 210.13(a), such responses will be considered by the Commission if received not later than 20 days after the date of service by the Commission of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondents, to find the facts to be as alleged in the complaint and this notice and to enter an initial determination and a final determination containing such findings, and may result in the issuance of an exclusion order or a cease and desist order, or both, directed against the respondents.

By order of the Commission.
Issued: February 23, 2012.
James R. Holbein,
Secretary to the Commission.

[FR Doc. 2012-4742 Filed 2-28-12; 8:45 am]

BILLING CODE 7020-02-P